DEPARTMENT OF COMMERCE

International Trade Administration

A-588-857

Preliminary Results of the Antidumping Duty Changed Circumstances Review and Notice of Intent to Revoke the Order in Part: Certain Welded Large Diameter Line Pipe from Japan

AGENCY: Import Administration, International Trade Administration, Department of Commerce.

SUMMARY: On August 14, 2006, the Department of Commerce (“the Department”) published a notice of initiation of a changed circumstances review of the antidumping duty order on welded large diameter line pipe (“LDLP”) from Japan with respect to excluding certain LDLP as described below from the order. See Initiation of Antidumping Duty Changed Circumstances Review: Certain Welded Large Diameter Line Pipe From Japan, 71 FR 46448 (August 14, 2006), (“Notice of Initiation”). In our Notice of Initiation, we invited parties to comment on the request to exclude certain LDLP (“product in question”), as described below. The Department received no comments.

Absent any comments, the Department preliminarily concludes that producers accounting for substantially all of the production of the domestic like product to which this order pertains lack interest in the relief provided by this order with respect to the product in question. Therefore, the Department preliminarily concludes that it is appropriate to revoke this order, in part, with respect to all future entries for consumption of certain welded LDLP, as described below, which would become effective on the date of publication of the final results of this review.

EFFECTIVE DATE: September 15, 2006.

FOR FURTHER INFORMATION CONTACT: Judy Lao or Abdelali Elouaradia, AD/CVD Operations, Office 7, Import Administration, International Trade Administration, U.S. Department of Commerce, 14th Street and Constitution Avenue, NW, Washington, DC 20230; telephone: (202) 482-7924 and (202) 482-1374, respectively.

The Applicable Statute and Regulations

Unless otherwise indicated, all citations to the statute are references to the provisions effective January 1, 1995, the effective date of the amendments made to the Tariff Act of 1930, as amended (“the Act”), by the Uruguay Round Agreements Act. In addition, unless otherwise indicated, all citations to the Department's regulations are to the regulations as codified at 19 C.F.R. Part 351 (2002).

SUPPLEMENTARY INFORMATION:

Background

On December 6, 2001, the Department published in the Federal Register the antidumping duty order on certain welded large diameter line pipe from Japan. See Notice of Antidumping Duty Order: Certain Welded Large Diamter Line Pipe from Japan, 66 FR 63368 (December 6, 2001); see also Certain Welded Large Diameter Line Pipe From Japan: Final Results of Changed Circumstances Review, 67 FR 64870 (October 22, 2002), which revoked the order with respect to certain merchandise as described in the “Scope of the Order” section of this notice. On July 17, 2006, American Steel Pipe Division of the American Cast Iron Company, Berg Steel Pipe, and Stupp Corporation, (collectively, “petitioners”) requested a changed circumstances review indicating they no longer have an interest in the following product being subject to the order: API grade X-80 having an outside diameter of 21 inches and wall thickness of 0.625 or more inches. See Letter from Petitioners to the Department, regarding large diameter welded line pipe from Japan, (July 17, 2006). In response to the request made by petitioners, the Department published the Notice of Initiation on August 14, 2006. In the notice, we indicated that interested parties could submit comments for consideration in the Department's preliminary results. We did not receive any comments from interested parties.

Scope of the Order

The product covered by this antidumping order is certain welded carbon and alloy line pipe, of circular cross section and with an outside diameter greater than 16 inches, but less than 64 inches, in diameter, whether or not stenciled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this order is American Water Works Association (AWWA) specification water and sewage pipe and the following size/grade combinations; of line pipe:

-Having an outside diameter greater than or equal to 18 inches and less than or equal to 22 inches, with a wall thickness measuring 0.750 inch or greater, regardless of grade. -Having an outside diameter greater than or equal to 24 inches and less than 30 inches, with wall thickness measuring greater than 0.875 inches in grades A, B, and X42, with wall thickness measuring greater than 0.750 inches in grades X52 through X56, and with wall thickness measuring greater than 0.688 inches in grades X60 or greater. -Having an outside diameter greater than or equal to 30 inches and less than 36 inches, with wall thickness measuring greater than 1.250 inches in grades A, B, and X42, with wall thickness measuring greater than 1.000 inches in grades X52 through X56, and with wall thickness measuring greater than 0.875 inches in grades X60 or greater. -Having an outside diameter greater than or equal to 36 inches and less than 42 inches, with wall thickness measuring greater than 1.375 inches in grades A, B, and X42, with wall thickness measuring greater than 1.250 inches in grades X52 through X56, and with wall thickness measuring greater than 1.125 inches in grades X60 or greater.

-Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

-Having an outside diameter equal to 48 inches, with a wall thickness measuring 1.0 inch or greater, in grades X-80 or greater.

-Having an outside diameter of 48 inches to and including 52 inches, and with a wall thickness of 0.90 inch or more in grade X-80

-Having an outsides diameter of 48 inches to and including 52 inches, and with a wall thickness of 0.54 inch or more in grade X100.

Scope of Changed Circumstances Review

The products subject to this changed circumstances review are LDLP from Japan with an API grade X-80 having an outside diameter of 21 inches and wall thickness of 0.625 or more inches.

Preliminary Results of Review and Intent to Revoke in Part the Antidumping Duty Order

Pursuant to section 751(d)(1) of the Act, the Department may revoke an antidumping or countervailing duty order, in whole or in part, based on a review under section 751(b) of the Act (i.e., a changed circumstances review). Section 751(b)(1) of the Act requires a changed circumstances review to be conducted upon receipt of a request which shows changed circumstances sufficient to warrant a review. Section 351.222(g)(1) of the Department's regulations provides that the Department may revoke an order (in whole or in part) based on changed circumstances, if it determines that: (i) producers accounting for substantially all of the production of the domestic like product to which the order (or part of the order to be revoked) pertains have expressed a lack of interest in the relief provided by the order, in whole or in part, or (ii) other changed circumstances are sufficient to warrant revocation exist. Taking into consideration that (1) the petitioners have uniformly expressed that they do not want relief with respect to this particular product, and that (2) there have been no contrary expressions from the remainder of the known LDLP producers, we are notifying the public of our intent to revoke, in part, certain welded large diameter line pipe from Japan.

Interested parties wishing to comment on these preliminary results may submit briefs to the Department no later than 15 days after the publication of this notice in the Federal Register. Parties will have 7 days subsequent to this due date to submit rebuttal comments, limited to the issues raised in those briefs. Parties who submit briefs or rebuttal comments in this proceeding are requested to submit with each argument (1) a statement of the issue and (2) a brief summary of the argument (no longer than five pages, including footnotes). Any requests for hearing must be filed within 30 days of the publication of this notice in the Federal Register.

All written comments must be submitted in accordance with 19 CFR 351.303, with the exception that only three (3) copies for each case need be served on the Department. Any comments must also be served on all interested parties on the Department's service list, which is available on our website (http://ia.ita.doc.gov/apo/index.html). The Department will issue its final results in this changed circumstances review as soon as practicable following the above comment period, but not later than 270 days after the date on which the changed circumstances review was initiated, in accordance with 19 CFR 351.216(e), and will publish the results in the Federal Register. If the final partial revocation occurs, the Department will instruct U.S. Customs and Border Protection to discontinue the suspension of liquidation for all future entries of merchandise covered by the revocation, and to release any cash deposits or bonds pursuant to 19 CFR 351.222(g)(4). The current requirement for a cash deposit of estimated antidumping duties on all subject merchandise will continue unless and until it is modified pursuant to the final results of this changed circumstances review.

This notice is published in accordance with sections 751(b)(1) and 777(i)(1) of the Act and 19 CFR 351.216 and 351.222.

Dated: September 11, 2006.
David M. Spooner,
Assistant Secretary for Import Administration.

[FR Doc. E6-15357 Filed 9-14-06; 8:45 am]

BILLING CODE 3510-DS-S